GENERAL SERVICES ADMINISTRATION

Notice of Intent To Prepare an Environmental Impact Statement for the Proposed Nebraska Avenue Complex Master Plan To House Components of the Department of Homeland Security

AGENCY: General Services Administration (GSA), National Capital Region.

ACTION: Notice.

SUMMARY: Pursuant to the requirements of the National Environmental Policy Act of 1969 (NEPA), the Council on Environmental Quality Regulations (40 CFR parts 1500-1508), GSA Order PBS P1095.1F (Environmental considerations in decisionmaking, dated October 19, 1999), and the GSA Public Buildings Service NEPA Desk Guide, GSA plans to prepare an Environmental Impact Statement (EIS) for the proposed Master Plan to guide future development of a campus for the Department of Homeland Security (DHS) at the Nebraska Avenue Complex (NAC). GSA will be initiating related consultation with the District of Columbia State Historic Preservation Officer and the Advisory Council on Historic Preservation under Sections 106 and 110 of the National Historic Preservation Act (16 U.S.C. 470(f) and 470(h-2)).

FOR FURTHER INFORMATION CONTACT: Suzanne Hill, NEPA Lead, General Services Administration, National Capital Region, at (202) 205-5821. Please also call this number if special assistance is needed to attend and participate in the public scoping meeting.

SUPPLEMENTARY INFORMATION: The notice of intent is as follows:

Notice of Intent To Prepare an Environmental Impact Statement

The General Services Administration intends to prepare an EIS to analyze the potential impacts resulting from the proposed Master Plan for the NAC. The master plan will guide the future development of a campus for DHS at the NAC.

Background

The purpose of the proposed action is to develop a Master Plan for the NAC Campus at the appropriate security level to house DHS. It is intended that the Master Plan will guide future renovation and development of the campus by establishing design and land-use planning principles for the construction of new buildings, roadways, open green space, utility systems, and other infrastructure needs, while minimizing environmental, economic, and social impacts. The Master Plan's design and planning principles will encourage the preservation and rehabilitation of the NAC's historic landscape and buildings.

The NAC Master Plan is needed to support the goals of the DHS National Capital Region Housing Master Plan which proposes to consolidate 28,000 DHS employees currently housed in approximately 48 locations into approximately 8 locations. The extreme dispersion of DHS components imposes significant inefficiencies in daily operations which can be magnified at the most critical moments when the department must act as an integrated team responding to significant natural disasters or terrorist threats. In order to fulfill DHS' significant space needs, GSA continues to explore various locations for DHS facilities throughout the National Capital Region. The NAC is identified in the DHS NCR Housing Master Plan as a viable site for certain DHS components.

In order to strengthen DHS operational management capabilities, the DHS NCR Housing Master Plan suggests that DHS employees continue to be housed at the NAC—one of the few locations in Washington, DC that can achieve the Interagency Security Committee (ISC) requirements for an ISC Level V secure campus. DHS' NCR-wide consolidation efforts could result in new or additional components to be housed at the NAC; therefore, a Master Plan is needed to guide any anticipated new facility, security, or infrastructure requirements.

Further, a NAC Master Plan is needed to serve as a guide that will provide for functional flexibility in serving programmatic changes related to the evolving mission of DHS. The NAC Master Plan will steer long range campus construction, renovation, and maintenance to serve DHS mission needs. There is a need for a comprehensive plan at the NAC to guide federal investment to maintain, improve or construct new campus facilities, security, and infrastructure.

In December 2008, GSA issued a Record of Decision for the DHS Consolidated Headquarters at St. Elizabeths in Washington, DC and an EIS is underway for the remaining DHS Headquarters Consolidation requirement at the St. Elizabeths East Campus.

Alternatives Under Consideration

GSA will analyze a range of alternatives including the no action alternative for the proposed NAC Master Plan. As part of the EIS, GSA will study the impacts of each alternative on the human environment.

Scoping Process

In accordance with NEPA, a scoping process will be conducted to aid in determining the alternatives to be considered and the scope of issues to be addressed, as well as for identifying the significant issues related to the proposed Master Plan to guide the future development of the campus. Scoping will be accomplished through a public scoping meeting, direct mail correspondence to potentially interested persons, agencies, and organizations, and meetings with agencies having an interest in the NAC. It is important that federal, regional, state, and local agencies, and interested individuals and groups take this opportunity to identify environmental concerns that should be addressed during the preparation of the Draft EIS.

GSA is also using the NEPA scoping process to facilitate consultation with the public under Section 106 of the National Historic Preservation Act (36 CFR Part 800). GSA welcomes comments from the public to ensure that it takes into account the effects of its action on historic and cultural resources.

Public Scoping Meeting

The public scoping meeting will be held on Tuesday, November 17, 2009 from 7 p.m. until 9 p.m. at Horace Mann Elementary School, Multipurpose Community Center Building, located at 4430 Newark Street, NW., Washington, DC 20016. The meeting will be an informal open house, where visitors may come, receive information, and provide comments. GSA will publish notices in the Washington Post and local newspapers announcing this meeting approximately two weeks prior to the meeting and will prepare a scoping report, available to the public, that will summarize the comments received and facilitate their incorporation into the EIS and Section 106 processes.

Written Comments: Agencies and the public are encouraged to provide written comments on the scoping issues in addition to, or in lieu of, providing comments at the public scoping meeting. Written comments regarding the environmental analysis for the proposed Master Plan must be postmarked no later than December 4, 2009, and sent to the General Services Administration, Attention: Suzanne Hill, NEPA Lead, 301 7th Street, SW., Room 7600, Washington, DC 20407, or via e-mail to Suzanne.Hill@gsa.gov.

Dated: October 27, 2009.
Patricia T. Ralston,
Director, Portfolio Management, National Capital Region, Public Buildings Service.

[FR Doc. E9-26436 Filed 11-2-09; 8:45 am]

BILLING CODE 6820-23-P